POSTAL SERVICE

Temporary Emergency Committee of the Board of Governors; Sunshine Act Meeting

Federal Register CITATION OF PREVIOUS ANNOUNCEMENT: 84 FR 500.

PREVIOUSLY ANNOUNCED TIME AND DATE OF THE MEETING: Thursday, February 7, 2019 at 10:30 a.m.; and Friday, February 8, 2019 at 9:00 a.m.

PLACE: Columbus, Ohio, at the Sheraton Columbus Hotel at Capitol Square, 75 East State Street, Columbus, OH 43215, in the Legislative Room.

STATUS: Thursday, February 7, 2019—Closed; Friday, February 8, 2019—Open.

CHANGES IN THE MEETING: Time of closed session changed and one item removed from open session agenda.

REVISED TIME AND MATTERS TO BE CONSIDERED:

Thursday, February 7, 2019 at 10:00 a.m. (Closed)

1. Strategic Issues.

2. Financial Matters.

3. Compensation and Personnel Matters.

4. Executive Session—Discussion of prior agenda items and Board governance.

Friday, February 8, 2019 at 9:00 a.m. (Open)

1. Remarks of the Chairman of the Temporary Emergency Committee of the Board.

2. Remarks of the Postmaster General and CEO.

3. Approval of Minutes of Previous Meetings.

4. Committee Reports.

5. Quarterly Financial Report.

6. Quarterly Service Performance Report.

7. Approval of Tentative Agenda for April meetings.

A public comment period will begin immediately following the adjournment of the open session on February 8, 2019. During the public comment period, which shall not exceed 30 minutes, members of the public may comment on any item or subject listed on the agenda for the open session above. Registration of speakers at the public comment period is required. Speakers may register online at https://www.surveymonkey.com/r/USPS-BOG-Question. Onsite registration will be available until thirty minutes before the meeting starts. No more than three minutes shall be allotted to each speaker. The time allotted to each speaker will be determined after registration closes. Participation in the public comment period is governed by 39 CFR 232.1(n).

CONTACT PERSON FOR MORE INFORMATION: Acting Secretary of the Board, U.S. Postal Service, 475 L'Enfant Plaza SW, Washington, DC 20260-1000. Telephone: (202) 268-4800.

Michael J. Elston,
Acting Secretary.

[FR Doc. 2019-01105 Filed 1-31-19; 4:15 pm]

BILLING CODE 7710-12-P